DEPARTMENT OF HEALTH AND HUMAN SERVICES

Centers for Disease Control and Prevention

National Center for Injury Prevention and Control/Initial Review Group, (NCIPC/IRG)

Correction: This notice was published in the Federal Register on February 18, 2010, Volume 75, Number 32, page 7284. The notice should read as follows:

NCIPC/IRG Workgroup: Research Grants for Preventing Violence and Violence-Related Injury, Funding Opportunity Announcement CE10-005.

In accordance with section 10(a)(2) of the Federal Advisory Committee Act (Pub. L. 92-463), the Centers for Disease Control and Prevention (CDC), announces the following meeting of the aforementioned review group:

Times and Dates:

8 a.m.-5 p.m., March 11, 2010 (Closed)

8 a.m.-5 p.m., March 12, 2010 (Closed)

Place: JW Marriott Hotel Buckhead, 3300 Lenox Road, Atlanta, Georgia 30326, Telephone (404) 262-3344.

Status: This meeting was closed to the public in accordance with provisions set forth in 41 CFR part 102 of the General Services Administration Federal Advisory Committee Management Final Rule.

Matters to be Discussed: The meeting included the review, discussion, and evaluation of applications intended to expand and advance the understanding of violence, its causes, and prevention strategies. Requests for Applications are related to the following individual research announcement: CE10-005.

Agenda items are subject to change as priorities dictate.

FOR FURTHER INFORMATION CONTACT: J. Felix Rogers, PhD, M.P.H., NCIPC/ERPO, CDC, 4770 Buford Highway, NE., M/S F63, Atlanta, Georgia 30341-3724, Telephone (770) 488-4334.

The Director, Management Analysis and Services Office, has been delegated the authority to sign Federal Register notices pertaining to announcements of meetings and other committee management activities, for both CDC and the Agency for Toxic Substances and Disease Registry.

Dated: June 8, 2010.
Elaine L. Baker,
Director, Management Analysis and Services Office, Centers for Disease Control and Prevention.

[FR Doc. 2010-14623 Filed 6-16-10; 8:45 am]

BILLING CODE 4163-18-P